DEPARTMENT OF AGRICULTURE

Rural Utilities Service

Oglethorpe Power Corporation; Notice of Intent

AGENCY: Rural Utilities Service, USDA.

ACTION: Notice of intent to hold a public meeting and prepare an environmental assessment.

SUMMARY: Notice is hereby given that the Rural Utilities Service (RUS), pursuant to the National Environmental Policy Act of 1969 (42 U.S.C. 4321 et seq.), the Council on Environmental Quality (CEQ) Regulations for Implementing NEPA (40 CFR Parts 1500-1508), and RUS Environmental Policies and Procedures (7 CFR Part 1794) proposes to prepare an Environmental Assessment related to possible financing assistance to Oglethorpe Power Corporation to construct a 652 megawatt simple cycle combustion turbine in Talbot County or Harris County, Georgia.

Meeting Information: RUS will conduct a public meeting in an open house format on Thursday, October 5, 2000, from 4:30 p.m. until 7:30 p.m. at Central Elementary—High School Talbotton, Highway 41 North, Talbotton, GA. All interested parties are invited to attend the meeting.

FOR INFORMATION CONTACT: Bob Quigel, Engineering and Environmental Staff, Rural Utilities Service, at (202) 720-0468. Bob's E-mail address is bquigel@rus.usda.gov. You can also contact Greg Jones of Oglethorpe Power Corporation at 1-800-241-5374, extension 7890. Greg's email address is greg.jones@opc.com.

SUPPLEMENTARY INFORMATION: Oglethorpe Power Corporation proposes to construct the natural gas fired electric generation plant at one of two potential sites. One site is located in Talbot County, Georgia, approximately 10 miles southwest of Talbotton. This site is approximately 2 miles north of U.S. 80 and State Road 22. Approximately 5 miles of natural gas pipeline and no new electric transmission line would be associated with a plant at this site. The other site is located in Harris County, Georgia, approximately 7.5 miles north of downtown Columbus. The site is adjacent to the east side of Interstate 185 north of Interchange 9. Approximately 3 miles of natural gas pipeline and reconductoring of several miles of electric transmission line would be associated with a plant at this site.

The proposed project will be composed of 6,108 megawatt (nominal) Siemens V84.2 combustion turbines capable of burning natural gas or fuel oil. It is the goal of Oglethorpe Power Corporation to have 4 of the units in operation by the summer of 2002 and the last two in operation in the summer of 2003.

Alternatives considered by RUS and Oglethorpe Power Corporation to constructing the generation facility proposed include: (a) no action, (b) purchased power, (c) renewable energy, (d) hydroelectric generation, (e) pumped storage hydroelectric generation, and (f) distributed generation.

An alternative evaluation and site selection study for the project was prepared by Oglethorpe Power Corporation. The alternative evaluation and site selection study are available for public review at RUS in Room 2242, 1400 Independence Avenue, SW, Washington, DC, and at the headquarters of Oglethorpe Power Corporation located at 2100 East Exchange Place, Tucker, Georgia. This document will also be available at the Talbot County Library at Jefferson Avenue and Harrison Street in Talbotton, Georgia, phone (706) 665-3134, the Harris County Library in Hamilton, Georgia, phone (706) 628-4685, and the Bradley Library at 1120 Bradley Street in Columbus, Georgia, phone (706) 649-0780.

Government agencies, private organizations, and the public are invited to participate in the planning and analysis of the proposed project. Representatives of RUS and Oglethorpe Power Corporation will be available at the scoping meeting to discuss RUS' environmental review process, describe the project and alternatives under consideration, discuss the scope of environmental issues to be considered, answer questions, and accept oral and written comments. Written comments will be accepted for at least 30 days after the public scoping meeting.

From information provided in the alternative evaluation and site selection study, input that may be provided by government agencies, private organizations, and the public, Oglethorpe Power Corporation will prepare an environmental analysis to be submitted to RUS for review. RUS will use the environmental analysis to determine the significance of the impacts of the project and may adopt it as its environmental assessment of the project. RUS' environmental assessment of the project would be available for review and comment for 30 days.

Should RUS determine, based on the environmental assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by CEQ and RUS environmental policies and procedures.

Dated: September 12, 2000.
Glendon Deal,
Acting Director, Engineering and Environmental Staff.

[FR Doc. 00-23911 Filed 9-15-00; 8:45 am]

BILLING CODE 3410-15-P